DEPARTMENT OF TRANSPORTATION

Office of the Secretary

49 CFR Part 71

[OST DOCKET NO. 2005-22114]

RIN 2105-AD53

Standard Time Zone Boundary in the State of Indiana

AGENCY: Office of the Secretary (OST), the Department of Transportation (DOT).

ACTION: Final rule.

SUMMARY: DOT is relocating the time zone boundary in Indiana to move Starke, Pulaski, Knox, Daviess, Martin, Pike, Dubois, and Perry Counties from the Eastern Time Zone to the Central Time Zone. DOT is not changing the time zone boundary to move St. Joseph, Marshall, Fulton, Benton, White, Carroll, Cass, Vermillion, Sullivan, and Lawrence Counties from the Eastern Time Zone to the Central Time Zone. This action is taken in response to petitions filed by the County Commissioners and extensive comment provided at public hearings and to the docket.

DATES: The effective date of this rule is 2 a.m. EST Sunday, April 2, 2006, which is the changeover date from standard time to Daylight Saving Time.

FOR FURTHER INFORMATION CONTACT: Judith S. Kaleta, Office of the General Counsel, U.S. Department of Transportation, Room 10428, 400 Seventh Street, Washington, DC 20590, indianatime@dot.gov; (202) 366-9283.

SUPPLEMENTARY INFORMATION:

Time Observance in Indiana

General History

The time zone for Indiana has been the subject of much debate since time zones were established, as noted by DOT in a notice proposing to change the time zone in Indiana, 56 FR 13609 (April 3, 1991). In 1918, when the Federal government first established time zones, all of Indiana was in the Central Time Zone. In 1961, the Interstate Commerce Commission, DOT's predecessor in setting time zones, moved the eastern half of Indiana to the Eastern Time Zone, but denied requests to move more of the State.

In 1967, at the request of the Governor of Indiana, in a notice of proposed rulemaking, DOT proposed to restore the entire State to the Central Time Zone. However, in 1968, DOT modified its proposal and proposed instead that the entire State be in the Eastern Time Zone with the exception of six counties in the northwest and seven in the southwest which would remain in the Central Time Zone. That modified proposal was supported by the commenters, with one exception. Commenters did not support moving one of the southwest counties to the Central Time Zone. Subsequently, effective April 27, 1969, time zone boundaries were established to place all of Indiana in the Eastern Time Zone with the exception of six counties in the northwest and six counties in the southwest.

With regard to the counties in southwest Indiana, in 1977, the Pike County Commissioners petitioned DOT to be moved to the Eastern Time Zone. After proposing the change and receiving comments, DOT moved Pike County to the Eastern Time Zone. The Indiana General Assembly requested that DOT move the 5 remaining southwest counties from the Central Time Zone to the Eastern Time Zone, in 1985, but DOT denied the request, finding that the move would not serve the “convenience of commerce.”

With regard to the counties in northwest Indiana, in 1986, the Jasper County Commissioners and the Starke County Commissioners made separate requests to move each county from the Central Time Zone to the Eastern Time Zone. DOT denied their requests, finding that changing the boundaries would not serve the “convenience of commerce.” In 1991, in a subsequent proceeding, based on another request from the Starke County Commissioners, DOT changed the time zone boundary to move Starke County into the Eastern Time Zone.

Current Indiana Time Observance

Under Federal law, 82 Indiana counties are in the Eastern Time Zone and 10 are in the Central Time Zone. The Central Time Zone counties include five in the northwest (Lake, Porter, La Porte, Newton, and Jasper) and five in the southwest (Posey, Vanderburgh, Warrick, Spencer and Gibson). Neighboring States observe both eastern and central time. Illinois and western Kentucky observe central time, while eastern Kentucky, Ohio, and the portion of Michigan adjoining Indiana observe eastern time.

Federal law provides that it is up to an individual State to decide whether or not to observe Daylight Saving Time. Generally, a State must choose to observe, or not observe, Daylight Saving Time across the entire State. The one exception is that, if a State is in more than one time zone, a “split” observance is permitted. Under this scenario, all of a State that is in one time zone may observe Daylight Saving Time, while the remainder of the State in the different time zone does not. Under Indiana law, for many years, the Central Time Zone portion of the State has observed Daylight Saving Time, while the Eastern Time Zone portion of the State has not observed Daylight Saving Time.

2005 and 2006 Sunrise and Sunset Times—Select Indiana Cities
Sunrise/sunset times | Evansville longitude W 87.5 latitude N 38.0 | Terre Haute W 87.4 N 39.5 | Jasper W 86.9 N 38.4 | Jasper If change to central time | La Porte W 86.7 N 41.6 | South Bend W 86.2 N 41.7 | South Bend If change to central time | Indianapolis W 86.1 N 39.8 | Ft. Wayne W 85.2 N 41.1
1/15/2005 | CST | EST | EST |  | CST | EST |  | EST | EST
Sunrise | 7:05 am | 8:08 am | 8:04 am |  | 7:11 am | 8:10 am |  | 8:04 am | 8:03 am
Sunset | 4:55 pm | 5:51 pm | 5:51 pm |  | 4:42 pm | 5:40 pm |  | 5:45 pm | 5:37 pm
1/15/2006 | CST | EST | EST | CST | CST | EST | CST | EST | EST
Sunrise | 7:05 am | 8:08 am | 8:04 am | 7:04 am | 7:11 am | 8:10 am | 7:10 am | 8:04 am | 8:04 am
Sunset | 4:55 pm | 5:50 pm | 5:51 pm | 4:41 pm | 4:42 pm | 5:40 pm | 4:40 pm | 5:44 pm | 5:37 pm
4/15/2005 | CDT | EST | EST |  | CDT | EST |  | EST | EST
Sunrise | 6:15 am | 6:12 am | 6:12 am |  | 6:07 am | 6:05 am |  | 6:07 am | 6:01 am
Sunset | 7:26 pm | 7:28 pm | 7:24 pm |  | 7:28 pm | 7:26 pm |  | 7:23 pm | 7:21 pm
4/15/2006 | CDT | EDT | EDT | CDT | CDT | EDT | CDT | EDT | EDT
Sunrise | 6:15 am | 7:12 am | 7:12 am | 6:12 am | 6:07 am | 7:05 am | 6:05 am | 7:07 am | 7:01 am
Sunset | 7:26 pm | 8:27 pm | 8:24 pm | 7:24 pm | 7:27 pm | 8:26 pm | 7:26 pm | 8:23 pm | 8:21 pm
7/4/2005 | CDT | EST | EST |  | CDT | EST |  | EST | EST
Sunrise | 5:33 am | 5:28 am | 5:29 am |  | 5:18 am | 5:16 am |  | 5:22 am | 5:14 am
Sunset | 8:16 pm | 8:20 pm | 8:15 pm |  | 8:24 pm | 8:23 pm |  | 8:16 pm | 8:16 pm
7/4/2006 | CDT | EDT | EDT | CDT | CDT | EDT | CDT | EDT | EDT
Sunrise | 5:33 am | 6:28 am | 6:29 am | 5:29 am | 5:18 am | 6:16 am | 5:16 am | 6:22 am | 6:14 am
Sunset | 8:16 pm | 9:20 pm | 9:15 pm | 8:15 pm | 8:24 pm | 9:23 pm | 8:23 pm | 9:16 pm | 9:16 pm
10/31/2005 | CST | EST | EST |  | CST | EST |  | EST | EST
Sunrise | 6:15 am | 7:17 am | 7:13 am |  | 6:18 am | 7:16 am |  | 7:12 am | 7:11 am
Sunset | 4:52 pm | 5:49 pm | 5:59 pm |  | 4:43 pm | 5:41 pm |  | 5:43 pm | 5:37 pm
10/31/2006 | CST | EST | EST | CST | CST | EST | CST | EST | EST
Sunrise | 6:15 am | 7:17 am | 7:13 am | 6:13 am | 6:18 am | 7:16 am | 6:16 am | 7:12 am | 7:10 am
Sunset | 4:52 pm | 5:49 pm | 5:49 pm | 4:49 pm | 4:43 pm | 5:41 pm | 4:41 pm | 5:44 pm | 5:38 pm
KEY: CST—Central Standard Time.
CDT—Central Daylight Time.
EST—Eastern Standard Time.
EDT—Eastern Daylight Time.
Source: U.S. Naval Observatory Astronomical Applications Department: http://aa/usno.navy.mil/data/docs/RS_OneDay.html.

As noted in a chart of select Indiana cities, the effect of Daylight Saving Time is the equivalent of moving one time zone to the east. This means that, by remaining on Eastern Standard Time year-round, the Eastern Time Zone portion of Indiana has been on the same time as New York in the winter (5 months) and on the same time as Chicago in the summer (7 months), resulting in the entire state being on the same time for 7 months of the year. The impact of State legislation (discussed in more detail below) to observe Daylight Saving Time throughout the State beginning in 2006 is that, in the summer, the time of sunrise and sunset on eastern Daylight Saving Time will be an hour later than it currently is under year-round Eastern Standard Time. There will be no change in the sunrise and sunset times during the winter when Eastern Standard Time will continue to be observed. Central Time Zone counties will continue to observe Daylight Saving Time in summer months as they have done previously.

Indiana's Decision To Observe Daylight Saving Time

In 2005, the Indiana General Assembly adopted legislation (Indiana Senate Enrolled Act 127 or “the Indiana Act”) providing that the entire State of Indiana will observe Daylight Saving Time beginning in 2006. In addition, the Indiana Act addressed the issue of changing the location of the boundary between the Eastern and Central Time Zones. The Indiana Act stated that, “[T]he [S]tate supports the county executive of any county that seeks to change the time zone in which the county is located under the procedures established by Federal Law.” The Indiana Act also provided that, “The governor and the general assembly hereby petition the United States Department of Transportation to initiate proceedings under the Uniform Time Act of 1966 to hold hearings in the appropriate locations in Indiana on the issue of the location of the boundary between the Central Time Zone and the Eastern Time Zone in Indiana.” Finally, the Indiana Act requested DOT to refrain from changing the time zone of any county currently located within the Central Time Zone and five counties near Cincinnati and Louisville.

Legal Standards and Procedures Concerning Changes to Time Zone Boundaries

Statutory Requirements

Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.” 15 U.S.C. 261.

DOT Procedures to Change a Time Zone Boundary

The Department has typically used a set of procedures to address time zone issues. Under these DOT procedures, the Department will generally begin a rulemaking proceeding if the highest elected officials in the area provide adequate supporting data for the proposed change. We ask that the petition include, or be accompanied by, detailed information supporting the requesting party's contention that the requested change would serve the convenience of commerce. The principal standard for deciding whether to change a time zone is defined very broadly to include consideration of all the impacts upon a community of a change in its standard of time. DOT has developed a series of questions to assist communities and use in determining the impact of a time zone change on the “convenience of commerce.” We ask that petitions for a time change address, at a minimum, each of the following questions in as much detail as possible.

1. From where do businesses in the community get their supplies, and to where do they ship their goods or products?

2. From where does the community receive television and radio broadcasts?

3. Where are the newspapers published that serve the community?

4. From where does the community get its bus and passenger rail services; if there is no scheduled bus or passenger rail service in the community to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

In addition, we consider any other information that the county or local officials believe to be relevant to the proceeding. We look at the distance each county is from the current time zone boundary, the proximity of each county to important metropolitan areas, and where the major roads and bridges are located. We have been reluctant to create “islands of time” by placing one county in a different time zone from all its neighboring counties in the State; we also consider the effect on economic, cultural, social, and civic activities between neighboring counties in making our decisions.

History of This Proceeding

On July 15, 2005, the Department sent a letter to Governor Daniels responding to the Indiana Act and letters from the Governor. Our letter noted that it is our normal practice, in implementing our responsibilities under the Uniform Time Act with respect to the location of time zone boundaries, to take action on specific requests for change in the time zone boundaries for a particular jurisdiction from the elected officials of that jurisdiction. After receiving a request, we review it and the supporting data to then determine whether the issuance of an NPRM is justified. If justified, we issue an NPRM to propose a change. After the close of the comment period on the NPRM, we review all comments and take appropriate final action.

DOT Notice Inviting Petitions

On August 17, 2005, DOT published a notice in the Federal Register inviting county and local officials in Indiana that wished to change their current time zone in response to the Indiana Act to notify DOT of their request for a change by September 16, 2005 and to provide data in response to the questions enumerated above. In addition, DOT announced the opening of an internet-accessible docket, OST Docket No. 2005-22114 (http://dms.dot.gov) to receive any petitions and other relevant documents concerning the appropriate placement of the time zone boundary in the State of Indiana.

Petitions Received

We received nineteen petitions from counties asking to be changed from the Eastern Time Zone to the Central Time Zone. Two of the counties (Fountain and Benton) subsequently withdrew their request.

In general, the petitions were clustered in the northwest (St. Joseph, Starke, Marshall, Pulaski, Fulton, Benton, White, Carroll and Cass Counties) and the southwest (Sullivan, Knox, Daviess, Martin, Lawrence, Pike, Dubois and Perry Counties). In the central portion of western Indiana, only Vermillion County asked to be changed to central time.

Other Communications From Local Officials

We also received a number of letters from counties and cities advising us that they had considered whether to petition for a change and, at this time at least, were satisfied with their current time zone boundary or wished to stay in the same time zone as Indianapolis, which is located in Marion County and is in the Eastern Time Zone. Those counties included Warren, Monroe, Orange, Steuben, Noble, Hendricks, Jefferson, Crawford and Jay. The cities of Whiting, Hebron, and Munster also filed letters expressing satisfaction with their current time zone.

Notice of Proposed Rulemaking

On October 31, 2005, DOT published a notice of proposed rulemaking (NPRM) in the Federal Register tentatively proposing to relocate the time zone boundary in Indiana to move St. Joseph, Starke, Knox, Pike, and Perry Counties from the Eastern Time Zone to the Central Time Zone at the request of their County Commissioners. We tentatively proposed not to change the time zone boundary to move Marshall, Pulaski, Fulton, Benton, White, Carroll, Cass, Vermillion, Sullivan, Daviess, Dubois, Martin, and Lawrence Counties from the Eastern Time Zone to the Central Time Zone based on our evaluation of the petitions from the commissioners in these counties.

Based on the petitions and the supporting data filed by their County Commissioners, we found that St. Joseph, Starke, Knox, Pike, and Perry Counties provided enough information to justify proposing to change those counties from the Eastern to the Central Time Zone. St. Joseph, Starke, Knox, Pike, and Perry County addressed all, or virtually all, of the factors that we consider in these proceedings to indicate a reasonable possibility that changing to the Central Time Zone would serve “the convenience of commerce.” In addition, we considered each county's geographic location compared to the current time zone boundary and how closely interrelated neighboring counties appeared to be. The specific reasons for granting the petitions for each of these counties differ based on the facts specific to each case.

We did not include all the counties that petitioned, for a number of reasons. Some presented almost no arguments or supporting data on why it would be appropriate to change the time zone boundary. Others addressed all, or most, factors but acknowledged that they had a significant connection with the Eastern Time Zone. A number of counties focused on the potential change to their neighbors' time zone, and seemed to be more concerned with staying in the same time zone as their neighbors than in changing their time zone. In other cases, the counties seemed to be equally connected to the Eastern and Central Time Zones.

In the NPRM, we noted that the amount of data provided in the petitions varied substantially among counties. Under our normal procedures, we do not take action unless the county makes a clear showing that the proposed change would meet the statutory standard. We recognized, however, that this is an unusual case because of the number of counties involved, their relationship to each other and to other neighboring counties, and the circumstances leading up to the petitions. Although the counties that we proposed to move to a different time zone provided adequate supporting data to justify the issuance of an NPRM, we noted that we would critically review contrary and supporting information that may be provided by others, and any other related comments and data prior to issuing a final rule. We said that if additional information was provided to indicate that the time zone boundary should be drawn differently, either to include counties excluded or to exclude counties that were included in the proposal, we would make the change at the final rule stage of this proceeding. We also announced that we would hold public hearings.

We provided 30 days for public comments in this proceeding and also said we would consider late filed comments to the extent practicable.

Notice of Public Hearings

On November 8, 2005, DOT announced the time and location of four public hearings to gather information concerning the effects of changing time zone boundaries in Indiana. The objective of these hearings was to provide State and local government representatives and the public an opportunity to comment on DOT's proposal concerning the time zone boundary in 18 Indiana counties that petitioned for a time zone change. To aid us in our consideration of whether a time zone change would be “for the convenience of commerce,” the statutory standard for changing time zone boundaries, DOT sought comments at the hearings on how the time zone change impacts on such things as economic, cultural, social, and civic activities and how time zone changes affect businesses, communication, transportation, and education.

The Public Hearings

An Overview

DOT held public hearings in Jasper, Logansport, South Bend, and Terre Haute. These hearings were chaired by Judy Kaleta, a career senior official in DOT's Office of the General Counsel. Each of the hearings received extensive media coverage, including live internet broadcast of the Logansport and South Bend hearings, and TV, radio, and newspaper reports on the hearings and the proposed changes in time zone boundaries.

The Department utilized a similar format to receive comments on the time zone issue at each hearing. The DOT representative described the process that DOT uses to set time zone boundaries. There was an opportunity for clarifying questions on her remarks. This was followed by presentations by county government representatives who had requested an opportunity to speak. If the government representative spoke on behalf of a county that petitioned for a change to the county time zone boundary, he or she was asked to explain how the change would be for the convenience of commerce, the statutory standard. After these presentations, other State and local government representatives had an opportunity to comment, followed by the public. Speakers were requested to complete speaker registration cards and include a time zone preference and reasons for the preference. The hearings were recorded and the speaker registration cards, audiotapes, videotapes, and a DVD for the hearings are in the rulemaking docket, OST Docket No. 2005-22114.

Public interest in this issue was illustrated by the many persons who participated in meetings lasting as long as almost 6 hours. The reasons for staying on the Eastern Time Zone or switching to the Central Time Zone were as varied as the individuals making the presentations. Many noted a preference for having all of Indiana in one time zone, wanting to keep things as simple as possible, not wanting a time zone boundary line “meandering through the State,” causing confusion. Some of those persons favoring one time zone expressed a time zone preference while others did not, seeking only a single time zone for the entire State. People often stated that they would put their personal preferences aside in the best interest of the communities. Business owners sometimes noted that they would support whatever decision was made and would adjust accordingly.

Some provided the hearing official with anecdotes on how the time zone in the county in which they lived affects their lives, both personal and professional, from their ability to watch their favorite sports teams and television shows to commuting to and from work. Others presented statistics relating to sunrise and sunset times, latitude and longitudes for time zones, worker commuting patterns in the region, and government-established economic development, transportation, school, and commerce regions. The reasons for staying in the current time zone or wanting to change ranged from a short one-issue rationale to multiple rationales, mostly presented in prose. The hearing official noted, however, that one poem and one song were presented at the hearings. Most expressed a strong passion for the issue. Some relied on humor to make their point. For example, one person referred to an episode from the TV show “The West Wing,” which did a segment on the time confusion in Southern Indiana.

Some talked about the difficulty of family life when one parent works in a county in the Eastern Time Zone and another works in the Central Time Zone. One mother talked about the problem of arranging child custody with her former husband because they lived in different time zones. Another mother mentioned her concern about leaving her autistic son in the dark to wait for a bus, when she had to leave for work. Parents also talked about the difficulty of finding after-care programs for their children, scheduling appointments, or dealing with after school events in counties on different time zones.

Other persons talked about the effects on their businesses. There were presenters from the Indiana Chamber of Commerce, which appeared at every hearing, and local chambers of commerce as well as business owners. The Indiana Chamber of Commerce “believes it is paramount to the future growth of our state that the 82 counties currently on Eastern Standard Time stay on Eastern Time” because “a preponderance of Hoosier business and normal daily activities (e.g. schooling, shopping, recreation, health care and religious worship) are done within areas observing Eastern Daylight Saving Time (EDT).” The Indiana Chamber of Commerce submitted various data in support of its position, including import-export figures, safety and energy arguments, Indiana media/commerce markets, sunrise-sunset options, and county profiles from the STATS Indiana website. Other business concerns ranged from employee satisfaction and attendance issues to delivery schedules in various time zones, to dealing with home or regional offices in other parts of the county, on Eastern, Central, Mountain, and Pacific time zones.

Several speakers presented information for the record at the hearing. A copy of their remarks, letters, maps, etc. have been submitted to the docket. Other speakers personally submitted comments to the docket and in some instances spoke at more than one hearing or provided comments to the hearing official at the hearing and also took advantage of the opportunity to provide videotaped comments at the South Bend hearing.

Many persons expressed frustration in dealing with living and working in different time zones and missing appointments due to time zone confusion. Some favored changing time zones, but only if other adjoining counties changed. No clear consensus emerged from the comments made at the hearings. Opinions varied widely depending upon interests and perspectives.

The Logansport Hearing

On November 13, 2005, 34 persons provided comments at the McHale Performing Arts Center, Logansport Community High School, at a hearing that lasted more than 4 hours. County commissioners from Carroll, Cass, and Fulton Counties spoke in support of their petitions. Starke County Commissioners, one who voted to support Starke County's request to move to the Central Time Zone and one who was absent on the date the commissioners voted but would have voted to keep Starke County in the Eastern Time Zone (based on health care, work schedules and shopping) also presented their opposing views at the hearing. The President of the Pulaski County Council spoke in favor the Pulaski County petition and also noted the difficulty of being a border county and suggested that the entire state be on the same time. Other elected officials at the hearing included State Representative Steve Heim and State Senator Vic Heinhold , both supporting Starke County's request to be moved to the Central Time Zone.

Business interests favoring the Eastern Time Zone were represented by the Indiana Chamber of Commerce, among others. There were also business interests favoring the Central Time Zone. For example, the Director of the Pulaski Community Development Commission presented information from the two major employers in the County who favored the Central Time Zone as well as from other employers.

Citizens from the following petitioning counties also spoke at the hearing or filled out a speaker's registration card: Cass, Carroll, Pulaski, St. Joseph, Starke, and White. In addition, there were speakers from the following non-petitioning counties: Allen, Bartholomew, Howard, Monroe, and Newton. The majority of the speakers and non-speakers who filled out speaker's registration cards (but left before being called upon) expressed their opinion that Indiana should be on the same time zone, favoring Central time, a result inconsistent with the Indiana Act and DOT's notice of proposed rulemaking.

The Terre Haute Hearing

The second hearing was held on November 14, 2005, in Terre Haute, at the Hulman Center Meeting Room Complex, Indiana State University. Thirty-six persons spoke at the hearing, including several public officials. County Commissioners from Sullivan and Vermillion Counties provided comments in support of their county's petitions. State Representative Clyde Kersey spoke in favor of the Central Time Zone. In addition, the county commissioner of Vigo County commented at the hearing, saying that the entire state should be on the same time zone. Business interests were represented by the Indiana Chamber of Commerce and the Terre Haute Chamber of Commerce as well as individual business persons.

Citizens from the following petitioning counties also spoke at the hearing or filled out a speaker's registration card: Sullivan and Vermillion. In addition, there were speakers from the following non-petitioning counties: Monroe, Parke, and Vigo. There was also one speaker from Edgar County, Illinois, which borders Sullivan County. Most said that they preferred that the entire state be moved to the Central Time Zone, even those citizens from non-petitioning counties, citing a variety of reasons including sunrise/sunset times and shopping convenience. The majority of residents from Vigo County, which did not petition for a time zone change, favored the Central Time Zone. Those who favored the Eastern Time Zone said that the time should be the same as Indianapolis.

The Jasper Hearing

Over 200 people attended the third hearing in Jasper, at the Jasper Arts Center on November 16, 2005, at a hearing that went on for over five hours. Sixty-seven persons presented comments to the presiding official. These included County Commissioners from the petitioning counties of Dubois, Knox, Lawrence, Martin, and Pike, all of them supporting their requests to be moved to the Central Time Zone. An attorney who submitted Perry County's petition spoke at the hearing in support of the County's petition. In addition, several of these county representatives also spoke in support of their neighboring county's petition. For example, the Perry County representative said it was “very important” for Perry and Dubois County to be on the same time zone because of the “significant” number of Perry County residents who work in Dubois County.

Many other elected officials from both State and local government spoke at the Jasper hearing, including two State Representatives, a county commissioner from a non-petitioning county, and several mayors from cities within the petitioning counties.

Citizens from the following petitioning counties also spoke at the hearing or filled out a speaker's registration card: Daviess, Dubois, Lawrence, Martin, Perry, and Pike. Those favoring the Central Time Zone noted that they received the local news from Evansville in the Central Time Zone. In addition, they referred to safety, economic, medical, and shopping in support of their Central Time Zone position. Those favoring the Eastern Time Zone often referred to business or recreation reasons.

Business interests were represented by the Indiana Chamber of Commerce and several local chambers as well as a development corporation. Many business owners and workers spoke at the Jasper hearing, with mixed positions on the appropriate time zone.

The South Bend Hearing

On November 21, 2005, at the Student Activity Center, Indiana University, South Bend Campus, more than 200 people attended the public hearing. Because of the high volume of interested speakers and to accommodate all interested speakers, each speaker was limited to 3 minutes for comment and given an opportunity to present comments to the presiding official or to have their comments videotaped on site in a separate room, or to file written comments on a form provided by DOT. Ninety-six persons presented comments to the presiding official in a hearing that lasted almost 6 hours. Eighty-seven persons chose to videotape their testimony and their comments were subsequently reviewed by the same presiding official. (Some did both, wanting to have additional time.) Sixty-two persons filed written comments at the hearing on a form that DOT made available at the hearing to ensure that people who did not want to wait to speak would have an additional way to present their views to the Department.

Commissioners from Fulton, Marshall, Starke, and St. Joseph spoke in support of their petitions. Many other elected officials from both State and local government spoke at the South Bend hearing, including three State Senators, two State Representatives, county commissioners from non-petitioning neighboring counties, and several mayors and council members from cities within both the petitioning counties and non-petitioning neighboring counties.

Business interests were represented by groups such as chambers of commerce as well as individual businesses. Education interests were concerned parents as well as an educational institution. Individuals also discussed transportation issues, which were also addressed by a transportation service provider. Media concerns were addressed by a viewers as well as a local television station.

Citizens from the following petitioning counties also spoke at the hearing or filled out a speaker's registration card: Fulton, Marshall and St. Joseph. In addition, there were speakers from the following non-petitioning counties: Elkhart, Howard, Porter, Allen, and Cass County, Michigan.

Comments to the Docket—An Overview

There were over 6000 entries to the docket in this proceeding in addition to the entries resulting from the public hearings. These included county petitions and supplementary information, letters from elected officials including the Governor, several Congressmen, State Senators and Representatives, mayors, city and county council members, businesses and local Chambers of Commerce, community associations, and interest groups. Thousands of comments were filed by individuals expressing their personal interests and preferences as well as their views on how a time zone change would be for the convenience of commerce.

Comments were made by the residents of both petitioning counties and non-petitioning counties. We also received comments from persons in Michigan, Kentucky, Ohio, and Illinois who felt that they may be impacted by any change to time zone boundaries in Indiana. For example, we received comments regarding the potential impacts on Cass County, Michigan, if St. Joseph County were placed in a different time zone from the greater Michiana area. In addition, comments were filed to the docket by citizens from counties that did not petition for a time zone change expressing concern that their county did not petition for a time zone change or that their county did not hold a public hearing on the issue. We have reviewed the petitions from all of the counties, the additional information they provided, and all other comments to the docket.

Out of 6142 comments to the docket that we reviewed as of December 30, 2005, 2057 or 33% favored a change to the Central Time Zone, 3040 or 50% favored remaining in the Eastern Time Zone, and 1045 or 17% fell into the “other” category, meaning that they expressed no preference between Eastern or Central Time, only that Indiana be in the same time zone, or that their county be on the same time as surrounding counties, or that they had concerns about the State legislature's adoption of Daylight Saving Time. Detailed breakdowns for each county have been included in charts that are found at the end of this discussion and do not include detailed breakdowns from the hearings. We have included these figures as an indication of the diversity of opinion and lack of consensus on the issue of time zones in Indiana among those who commented. Our decision whether to change the time zone boundary, however, is not based on the number of persons supporting a particular time zone. Rather, as noted above, the statutory standard for decisions to move an area from one time zone to another is “regard for the convenience of commerce and the existing junction points and division points of common carriers engaged in interstate or foreign commerce” and the information provided by commenters helps us make this decision. This standard is defined very broadly by the Department to include consideration of all the impacts upon a community of a change in its time zone.

The commenters suggested a wide variety of approaches to establishing time zone boundaries in Indiana including moving their county to the Central Time Zone, keeping their county in the Eastern Time Zone, placing all of the State in the Eastern Time Zone, placing all of the State in the Central Time Zone, placing all of the State in the Central Time Zone with the exception of Indianapolis in Marion County and the counties surrounding Marion, and maintaining the current time zone boundaries. The primary reasons given by those in favor of the Central Time Zone include the benefit to commerce and increasing availability for communication with customers on the West coast; astronomical, referring to the time at which the sun is directly overhead as compared to clock time; geographic location of the State, with closer ties to Chicago and the Midwest compared to New York and the East coast; safety of school children waiting for school buses in the morning; and employment-related reasons such as wanting to live in and work in counties on the same time zone. Primary reasons given by those in favor of the Eastern Time Zone include commerce, because Indianapolis, the state capital, and the majority of the State is on the Eastern Time Zone; recreation and quality of life which they say is improved by having more daylight in the evening to spend time with the family or outdoors; and safety of the motoring public, because there are more daylight hours in the evening.

Commenters provided a wide variety of data on sunrise/sunset times, economic development and trends, commuting patterns, school districts and institutions of higher learning, effects upon transportation services, and the location of cultural and recreational activities.

Discussion of Comments Applicable to All Petitioning Counties

A substantial number of the commenters, both in written submissions and at the public hearings, repeatedly raised three issues that they argued should or should not result in a change in the time zone boundary for particular petitioning counties: (1) “Natural time zone” or “simple geography;” (2) regional connections; and (3) safety of the children. Commenters favoring a move to the Central Time Zone relied upon the “natural time zone” or “simple geography” position and concerns about the safety of the children. On the other hand, the effects of regional connections were raised by both opponents and proponents of time zone changes.

These three issues were raised with regard to every petition filed. Rather than repeating these matters in the summary of the comments on a county-by-county basis, we have summarized them below and responded to these comments in this section. They have been considered in making our decision for changing the time zone boundary in each county.

“Natural Time Zone” or “Simple Geography”

Both at the hearing and in written comments, there were repeated references to astronomical and geographic indicators for time zone to support the position for the Central Time Zone. Leading proponents of this position were Hoosiers for Central Time, started by David Kinney, a drive-in movie theatre owner, and Jeff Sagarin. Commenters noted that time zones are established geographically by the earth's 24 hour rotation and the 360 degrees of the earth's circumference. Based on geography, they explained that the geographic boundary between the Eastern and Central Time Zones is at the 82.5 degree line of longitude which is in Ohio, not Indiana. They also noted that the geographic center of the Central Time Zone is located in Illinois and, therefore, “the entire state of Indiana is well within the natural boundaries of the central time zone.” From an astronomical perspective, commenters stated that the sun should be overhead at noon and that, under Eastern Daylight Time, the sun would not reach its highest point until 2 p.m. and set at 9:15 p.m. in the summer in some parts of Indiana. They complained of being “out of sync” with the sun. They argued, therefore, that all of Indiana should be moved to the Central Time Zone, as it was from 1918 to 1961.

The Department is mindful of the value and ease of setting time zones based on simple geography. Congress has recognized, however, that natural time and simple geography do not address the complexity of modern life. Accordingly, in addition to establishing time zones based simply on longitudinal lines, Congress adopted a standard for time zone decisions: “Regard for the convenience of commerce and the existing junction points and division points of common carriers engaged in interstate or foreign commerce.” It is DOT's responsibility to consider requests for changes in time zone boundaries in light of the statutory standard, bearing in mind the need to address the effect on economic, cultural, social, and civic activities between neighboring counties in making decisions. Furthermore, DOT does not have a statewide proposal before it nor has the Indiana legislature endorsed such an approach. It is, therefore, beyond the scope of this proceeding to consider such a significant change to the State's time zone boundaries.

Regional Connections

As noted above, DOT has developed a series of questions to assist communities and us in determining the impact of a time zone change on the “convenience of commerce.” We asked that petitioning counties and commenters discuss how the time zone change impacts such things as economic, cultural, social, and civic activities and how time zone changes affect businesses, communication, transportation, and education. In responding to these questions at both the public hearings and in written submissions to the docket, many commenters referred to regional connections. As one commenter put it, DOT “should be recognizing cohesive areas with time zone lines—not creating further divisions.”

Petitioning counties advocating for a move to the Central Time Zone referred to their ties to other Indiana counties currently on the Central Time Zone. Petitioning counties in the northwest answered DOT's questions by referring to their ties to Chicago for media, transportation, and business; the southwest counties referred to their connections to Evansville. Petitioning counties also talked about wanting to be on the same time zone as their neighboring counties, and often mentioned that they were aware that their neighboring counties were also petitioning for change. Several commissioners spoke at the public hearings and submitted letters in support of their neighbor's petitions. Similarly, counties that chose not to seek a time zone change opposed neighboring county's petitions in the interest of keeping the region on the same time zone. For example, Elkhart County, opposing St. Joseph County's petition, referred to the need to keep the Michiana region (neighboring Michigan counties and St. Joseph, Marshall, Elkhart, and Kosciusko Counties) in the same time zone.

Many of the petitioning counties and commenters referred to data from STATS Indiana, an information service of the Indiana Business Research Center at Indiana University's Kelly School of Business. This includes Indiana Annual Commuting Trends Profile, based on Indiana IT 40 returns for tax year 2003. The Commuting Trends Profile shows county-by-county commuting patterns both into and out of the county. Commenters also referred to data from the Indiana Economic Development Corporation (IEDC), the State of Indiana's lead economic development agency, established in February 2005 to replace the former Department of Commerce. IEDC focuses its efforts on growing and retaining businesses in Indiana and attracting new business to the State of Indiana. It has identified 5 geographic areas of commerce for purposes of its programs. Commenters also referred to data from Indiana Department of Workforce Development, which manages and implements employment programs and unemployment insurance systems, and facilitates regional economic growth initiatives for Indiana. The Indiana Department of Workforce Development has identified 11 regions of economic activity. Commenters noted that the Indiana Department of Transportation has established Indiana transportation districts, dividing Indiana into 6 regional transportation networks, and that the Indiana Department of Education has divided the State into 9 education service centers.

With regard to media, the Indiana Chamber of Commerce provided a map identifying Indiana Media/Commerce Markets, listing as its source 2004 Survey of Buying Power, Sales & Marketing Magazine, September 2004. In addition, several commenters including television broadcasting stations referred to Designated Media Markets as defined by the Nielsen for use in television ratings. A few commenters referred to the Federal Communication Commission Designated Viewing Areas.

In supporting their claims that a time zone change should or should not be made, commenters relied upon these regional divisions, districts, areas, or markets in order to demonstrate how the change would be consistent or in conflict with a particular regional entity or state designation. For example, a commenter at the Jasper hearing, Greg Wathen, the Executive Director for the Perry County Development Corporation, spoke in favor of Perry County's petition to move to the Central Time Zone and asked “that the same consideration be given for those other counties within our region.” In support of his position, he extensively referred to the various Indiana agencies noted above that defined regional areas of economic activity and commerce.

The Department has summarized information concerning regional connectivity in the following charts:

Northern ¹ Indiana Regional Configurations
County | IEDC ² | Economic growth ³ | Workforce ⁴ | Commerce ⁵ | Transportation ⁶ | Education ⁷ | Media and commerce market ⁸
Petitioning Counties
Carroll | C | 4 | 4 | 5 | La Porte | Wabash Valey | Lafayette.
Cass | NC | 4 | 5 | 4 | La Porte | Wabash Valley | Indianapolis.
Fulton | NC | 2 | 5 | 2 | La Porte | N. Indiana | South Bend.
Marshall | NC | 2 | 2 | 2 | La Porte | N. Indiana | South Bend.
Pulaski | NW | 1 | 1 | 2 | La Porte | N. Indiana | South Bend.
St. Joseph | NC | 2 | 2 | 2 | La Porte | N. Indiana | South Bend.
Starke | NW | 1 | 1 | 2 | La Porte | N. Indiana | South Bend.
White | C | 4 | 4 | 5 | La Porte | Wabash Valley | Lafayette.
Non-Petitioning Counties
Elkhart | NC | 2 | 2 | 2 | Fort Wayne | N. Indiana | South Bend.
Kosciusko | NC | 2 | 2 | 2 | Fort Wayne | N. Indiana | South Bend.

Central Indiana Regional Configurations
County | IEDC | Economic growth | Workforce | Commerce | Transportation | Education | Media and commerce market
Petitioning Counties
Vermillion | C | 7 | 7 | 6 | Crawfordsville | West Central | Terre Haute.
Sullivan | SW | 7 | 7 | 6 | Vincennes | West Central | Terre Haute.
Non-Petitioning Counties
Vigo | C | 7 | 7 | 6 | Crawfordsville | West Central | Terre Haute.

Southern Indiana Regional Configurations
County | IEDC | Economic growth | Workforce | Commerce | Transportation | Education | Media and commerce market
Petitioning Counties
Daviess | SW | 8 | 11 | 11 | Vincennes | S. Indiana Ed | Terre Haute.
Dubois | SW | 11 | 11 | 11 | Vincennes | S. Indiana Ed | Evansville.
Knox | SW | 11 | 11 | 11 | Vincennes | S. Indiana Ed | Terre Haute.
Lawrence | SW | 8 | 8 | 10 | Vincennes | S. Indiana Ed | Indianapolis.
Martin | SW | 8 | 11 | 11 | Vincennes | S. Indiana Ed | Terre Haute.
Perry | SW | 11 | 11 | 11 | Vincennes | S. Indiana Ed | Evansville.
Pike | SW | 11 | 11 | 11 | Vincennes | S. Indiana Ed | Evansville.
Non-Petitioning Counties
Orange | SW | 8 | 12 | 12 | Vincennes | S. Indiana Ed | Louisville.
Crawford | SW | 10 | 12 | 12 | Vincennes | S. Indiana Ed | Louisville.
¹ Indiana's Regional Configurations, Stats Indiana from Indiana Business Research Center.
² Indiana's Economic Development Corporation recognizes 5 areas of commerce.
³ Indiana's Department of Workforce Development created 11 regions of economic activity.
⁴ http://www.in.gov/dwd/job_seekers/job_seekers_workforce_centers_regional_map.html.
⁵ Indiana Business Research Center, an outreach service of the Kelley School of Business at Indiana University.
⁶ Indiana Department of Transportation has divided the State into 6 regional transportation districts. http://www.in.gov/dot/div/traffic/districts/index.html.
⁷ Indiana Department of Education has divided the State into 9 education service centers. http://doe.state.in.us/htmls/esc.html.
⁸ Indiana Chamber of Commerce, Source of Information, Survey of Buying Power, Sales and Marketing Magazine, September 2004.

DOT has carefully reviewed this data and utilized it in reaching its decision. DOT recognizes the importance of regional connections and the benefits of similar time zones and regional ties among counties. Remaining in the same time zone and maintaining their regional ties better position counties to realize advantages in economic, cultural, social, and civic activities, thereby serving the convenience of commerce.

Safety of the Children

Many commenters expressed concern about the impact of the time zone boundaries on children. Some concerned parents commented that, for safety reasons, their children should not have to be standing at the bus stop on rural roads when it is still dark outside and, therefore, urged a move to the Central Time Zone. Other concerned parents stated that there was no statistical data concerning early morning incidents involving children waiting for buses and said that they preferred that their children have an extra hour of daylight at the end of the day to allow them to spend more time outdoors to get exercise. A few commenters talked about an obesity problem in children who did not exercise and suggested it was better to have more daylight in the afternoon so that children could play sports or otherwise be active outdoors. They favored, therefore, keeping counties in the Eastern Time Zone. A few other commenters mentioned student drivers. They noted that student drivers “have very limited driving skills” and would “drive to school in the dark and often times in hazardous road conditions.”

One commenter, who spoke at the South Bend hearing and subsequently filed a comment, Mark Catanzarite, who serves on the St. Joseph County Council and is a firefighter/paramedic, referred to Executive Order 13045—Protection of Children from Environmental Health Risks and Safety Risks. Noting that St. Joseph County is highly populated while its neighboring counties of Marshall, Starke, Fulton, and Pulaski are more rural, he described the harsh Northern Indiana winter weather. He said that the petitioning counties in Northern Indiana are subject to numerous fog and snow delays each school year. “The difference between a two and three hour delay is the critical factor in determining if school will be cancelled. Anything more than a two-hour delay automatically cancels classes for the day and lost time is costly.” Several working parents talked about the problems that school delays caused for them in terms of missing work or arranging for child care. John Gaski, a university professor, also referred to Executive Order 13045 in a comment to the docket. He noted a National Bureau of Standards report that, according to Mr. Gaski, found that there were “more fatalities to children from morning darkness.” He questioned whether a final rule putting the region in the Eastern Time Zone would violate the Executive Order.

Other commenters said that the argument about school children waiting in the dark should not be used to support a move to the Central Time Zone. For example, the Indiana Chamber of Commerce provided information on the safety case. The Chamber noted “[d]arkness in the morning at bus stops has not proven to be a safety hazard.” In support of its position, the Chamber stated that a “32-year National Study of School Bus Safety done by the Kansas State DOE in 2003 shows that 90% of school bus-stop accidents occur in daylight.” In responding to the Chamber's position, Thomas Heller wrote that the study only addressed loading and unloading accidents and that there were no studies presented on moving school bus accidents or the performance of schoolchildren and academic achievement based on “unnaturally-early school hours.” Although expressing concern about dark mornings, Patty Ann Wright, a school bus driver for 23 years from Sullivan County, stated that school bus drivers attend annual safety meetings and that buses are inspected at least twice a year. She noted that “[b]ecause of this emphasis on safety, there are very few injuries to Indiana schoolchildren while traveling on school buses.” On the other hand, another commenter, Gary King, asserted that “it would be better if the schools would change to later starting times. Educational research supports that.”

The Department received no research or studies supporting this assertion. Later starting times for schools is a local issue beyond the scope of this proceeding.

Executive Order 13045, as amended by Executive Orders 13229 and 13296, defines “environmental health risks and safety risks” as “risks to health or to safety that are attributable to products or substances that the child is likely to come into contact with or ingest (such as the air we breath, the food we eat, the water we drink or use for recreation, the soil we live on, and the products we use or are exposed to.” By its terms, the Executive Order does not apply to this matter. Nevertheless, because we have a continuing concern about children in all our programs, we have reviewed and assessed the comments on the impact of time zone changes on children.

Safety is the number one priority of the Department and we are committed to improving safety of school children. No conclusive evidence was presented, however, to indicate that the Eastern Time Zone and morning darkness will result in increased safety risks to children. While mornings may be dark, no commenters have provided any evidence that school children in neighboring counties to the north in Michigan or to the east and south in Indiana are at increased safety risk. Moreover, no commenter cited any studies or data from the Indiana Department of Education claiming that the time zone causes particular problems for school children. In addition, as for the 1976 National Bureau of Standards study referred to by Mr. Gaski, while there were reports of increased fatalities among school-age children in the mornings during the test period, it was impossible to determine whether this was due to Daylight Saving Time which would have resulted in a later sunrise. See Congressional Research Service Order Code RS22284, Daylight Saving Time, September 27, 2005. Furthermore, in “The Daylight Saving Time Study,” a September 1975 report to Congress, the Department discussed the safety of school children going to school in the morning darkness. The report concluded, “it has been discovered that in the morning school-age children fatal accidents were not significantly different from fatal accidents in the total population.”

Laws exist to protect children getting on and off school buses. If a bus stop is located in a dangerous place, the Department continues to encourage individuals and local communities to talk with the school office or transportation director about changing the location.

County-by-County Discussion of the Comments to the Docket and at the Public Hearings Northwest Counties

St. Joseph

St. Joseph County Commissioners submitted a petition signed by the President of the St. Joseph County Board of Commissioners and a letter signed by 2 of the 3 commissioners requesting that St. Joseph County be moved to the Central Time Zone. As we noted in the NPRM in which we proposed to move St. Joseph County to the Central Time Zone, St. Joseph County filed detailed information with its petition addressing each of the Department's time zone factors, showing how changing to the Central Time Zone would be beneficial for the community. The third St. Joseph County Commissioner Mark Dobson, who dissented from the Commission's vote for the Central Time Zone, submitted a point-by-point refutation of almost all of the data relied upon by the majority of the commissioners. He contended that equally persuasive data supported keeping St. Joseph County in the Eastern Time Zone. Each of the 3 commissioners spoke at the South Bend public hearing expressing their views.

Subsequent to the hearing, St. Joseph County Commissioner Cynthia Bodle sent a letter to the docket enclosing resolutions adopted by La Porte, Porter, and Lake Counties in support of locating St. Joseph County in the Central Time Zone. She noted two common points in her correspondence: “first, that St. Joseph is an important centrally located regional hub for distribution and transportation, second, that the counties of St. Joseph, La Porte, Porter, and Lake are connected by the unique and vital service of the Northern Indiana Commuter Transportation District.” Also subsequent to the hearing, St. Joseph County Commissioner Steve Ross submitted his hearing statement and sent a letter highlighting two “studies.” The first was a comment by Fort Wayne Attorney Paul O'Malley concerning the effects of area counties and time zone boundaries. The O'Malley comment concluded that St. Joseph County and La Porte County are being economically damaged by the present location of the time zone boundary between them. The second was a “review, appraisal, and statement” by University of Notre Dame Associate Professor of Marketing John Gaski rebutting the data provided and assertions made by proponents of the Eastern Time Zone for St. Joseph County, including St. Joseph County Commissioner Mark Dobson and the Michiana Council of Governments.

Another letter reflecting the conflicting opinions from elected officials is from the Michiana Area Council of Government (MACOG), the Metropolitan Planning Organization representing St. Joseph, Elkhart, and Marshall Counties. MACOG is “funded through the Department of Commerce (EDA) to complete regional Economic Development activities in Northern Indiana representing Elkhart, St. Joseph, Marshall, and Kosciusko Counties.” In a November 21, 2005 letter, the MACOG Policy Board encouraged us to keep the counties of St. Joseph, Marshall, Elkhart, and Kosciusko in the same time zone. The letter noted that in June 2005, the MACOG Policy Board voted on the issue. According to the minutes of the meeting that were attached to the letter, as a member of MACOG, St. Joseph County Commissioner Cindy Bodle made a motion to “support the sending of a letter by the policy board to ask that the four county region all remain in the same time zone.” In addition, the minutes note that John Zentz, Marshall County Commissioner, “stated his opinion that he felt that the area all being on the same time zone was of utmost importance.” The MACOG letter also noted that the “MACOG Policy Board has not endorsed any one time zone for the region.”

Based on comments made at the hearing and to the docket, there was no consensus among elected officials from State and local governments, who expressed conflicting views on the proposed time zone change for St. Joseph County. Some strongly support the change; others vehemently opposed it.

Governor Daniels, in a letter to the Department, recommended that the Department decline to move St. Joseph County to the Central Time Zone. He said, “The clear preference of neighboring Elkhart County and other nearby counties to remain in the Eastern Zone means that a unified metropolitan region would be divided, an outcome virtually no one advocates.”

Several Indiana State legislators expressed their opinions on the proposed time zone change at the hearing in South Bend and in comments to the docket. State Senator Marvin Reigsecker opposed moving St. Joseph County to the Central Time Zone because of the county's ties to Elkhart County. On the other hand, State Senators Pat Bauer and Vic Heinhold supported the change to the Central Time Zone, with Senator Bauer acknowledging regional ties to Elkhart and encouraging Elkhart to petition for a change. State Representative Steve Heim supported moving St. Joseph County into the Central Time Zone. State Representatives Gerald Torr and William Friend opposed the change based on regional ties to Elkhart, Marshall, and Kosciusko Counties. State Representative Julie Walorski did not express a time zone preference but said that Marshall, St. Joseph, and Elkhart Counties should be in the same time zone.

There were also divergent views expressed by government officials in neighboring counties. From St. Joseph County's neighbor to the east in the Eastern Time Zone, favoring the Eastern Time Zone, were Elkhart County Commissioners Phil Stiver, Terry Rodino, and Mike Yoder; Mayor of Elkhart David Miller; and Jim Pettit and Arvis Dawson from the Elkhart City Council. The principal basis for their opposition to moving St. Joseph County to the Central Time Zone was the need to keep the economic region in the same time zone. Both in a written submission to the docket and at the public hearing, the Elkhart County Commissioners emphasized that “splitting Elkhart, St. Joseph, Marshall and Kosciusko counties into different time zones is not prudent nor would it have positive long term effect on the economic growth of our region.” The Elkhart County Commissioners, in a November 2, 2005, statement submitted by St. Joseph County Commissioner Dobson, urged St. Joseph County to withdraw its petition and pledged “to work with them to further address the time issue on a broader scale” and to thereby “stay a part of the Michiana community.” On the other hand, Marlo Harmom, county commissioner from La Porte County, St. Joseph County's neighboring county to the west and currently located in the Central Time Zone, supported the petition and the proposed move to the Central Time Zone. At the hearing, the Mayor of South Bend, Stephen Luecke, supported a change to the Central Time Zone for St. Joseph County, but also for the entire State, to help grow industries. As Chairman of the MACOG Policy Board, however, Mayor Luecke, in a letter to DOT asserted that St. Joseph, Elkhart, Marshall, and Kosciusko counties should remain in the same time zone. South Bend City Council members Charlotte Pfiffer and Mike Crook supported a move to the Central Time Zone as did Mayor of Mishawaka Jeff Rea.

The divergent views of public officials were also reflected in comments to the docket. Out of 2000 comments submitted to the docket from St. Joseph County, 913 favored the change to the Central Time Zone, 790 favored remaining in the Eastern Time Zone, and 297 expressed interest in keeping Indiana on the same time zone, expressing no preference. Many of those who favored the Central Time Zone did so only if the surrounding counties in the economic region also moved to the Central Time Zone.

Supporters of moving St. Joseph County to the Central Time Zone noted that St. Joseph County has been on the same time as Chicago for much of the year. The reason for this is that while St. Joseph County was on Eastern Standard Time and did not observe Daylight Saving Time, 7 months out of the year, from April to October, it was effectively on the same time as its neighbors to the west who are in the Central Time Zone. Switching to the Central Time Zone would continue any benefits the county enjoyed during these seven months.

With regard to transportation, supporters of moving St. Joseph County to the Central Time Zone noted that the South Shore Line, a commuter railroad, is linked to the Central Time Zone with the South Bend stop as the only one in the Eastern Time Zone. Favoring the Central Time Zone, the Northern Indiana Commuter Transportation District (NICTD) wrote in support of St. Joseph County's petition “highlighting the fact that NICTD is the only commuter railroad in the country that splits time zones and is the single most confusing factor in accessing and using our service between South Bend and Chicago.” NICTD's letter addressed “the convenience of commerce” and “the existing junction points and division points of common carriers,” the statutory standard that DOT considers in setting time zone boundaries. Supporters of the Eastern Time Zone maintained that air travel experience supported no change in time zone for St. Joseph County because more air travel was linked to the east rather than Chicago.

With regard to questions about the sources of media coverage in South Bend, there were comments at the hearing and to the docket that citizens receive their news from Chicago newspapers, television, and radio. However, other commenters claimed that the media coverage was more regional coming from South Bend primarily and covering its neighboring counties to the west and south.

With regard to commercial interests, inconsistent positions and data were also provided. Many businesses favored the Eastern Time Zone. The Chamber of Commerce of St. Joseph County stated that 91% of its survey respondents believed it was essential for Elkhart and St. Joseph County to be in the same time zone “due to our regional economy.” The Northern Indiana Workforce Investment Board strongly recommends that St. Joseph, Elkhart, Fulton, Kosciusko, and Marshall Counties be in the same time zone. The MACOG submission also said that businesses supported not changing to the Central Time Zone. Individual businesses also expressed support for the Eastern Time Zone. Finally, Chuck Bueter at the South Bend hearing presented the presiding official with a telephone book, noting that there were approximately 189 businesses listed that started with Michiana. As several commenters noted, it is the Michiana region, not “Chicagiana.”

Other businesses, including those in the steel industry, expressed strong support for St. Joseph County's petition to be placed in the Central Time Zone. For example, the President of Steel Warehouse Company, Inc. spoke at the public hearing and submitted additional comments to the docket. He noted a number of other businesses, such as USX and IN/Tek-In-Kote, Northwest Indiana steel mills, and trade associations, such as Metal Service Center Institute, support move to the Central Time Zone. He stated that his company would face a problem “securing trucking services, which primarily emanate from the Central Time Zone.” Furthermore, in supporting the Central Time Zone, Professor Gaski disputed the MACOG data and its underlying methodology.

With regard to schooling, many proponents of moving St. Joseph County to the Central Time Zone raised the safety of children argument discussed above, based on concerns of late sunrise times. Six school board superintendents from Elkhart County, however, signed a joint letter to the Department saying, “With split time zones, students who participate in athletics and other academic activities with schools who are on a different time zone will mean getting home later than they already do which is now sometimes after 10:30 p.m.-11 p.m. This could possibly now be closer to midnight and they will be expected to be ready for a full day of school the next day. This is ludicrous.” In a similar vein, James Kunze, President of Plymouth Broadcasting, Inc. said that the school system “would be impacted unless both counties were on central time,” referring to St. Joseph and Marshall Counties.

Referring to its universities, a commenter stated that the county's largest industry is education. Ken Baierle from Indiana University South Bend spoke in favor of St. Joseph County remaining in the Eastern Time Zone for the convenience of the students as well as the University, noting student commuters and offsite campuses in Elkhart and Plymouth.

Starke

Starke County Commissioners submitted a petition to move to the Central Time Zone based on a public hearing during which “the citizens of Starke County overwhelmingly favored adopting Central Daylight Savings Time.” In a letter accompanying the petition, the Commissioners enumerated various ways in which changing to the Central Time Zone would be for the “convenience of commerce,” including regional ties to Chicago for the majority of their television broadcasts and newspaper deliveries. They noted that the county is essentially a farming community with a small manufacturing base and submitted annual commuting data in support of their position.

As we noted in the NPRM, Starke County had been in the Central Time Zone and it presented evidence of close ties to areas in the Central Time Zone.

Starke County Commissioner Kevin Kroft spoke at the Logansport public hearing and noted that Starke County had previously been located in the Central Time Zone and that county residents support a return to the Central Time Zone. County Commissioner Kroft along with his fellow commissioner Mark Milo also spoke in support of their petition at the South Bend hearing.

State Representative Steve Heim and State Senator Vic Heinhold spoke at both the Logansport and South Bend hearings in support of Starke County's request to be moved to the Central Time Zone and Senator Heinhold submitted a letter to the docket supporting Starke County's petition.

Few commenters expressed opposition to moving Starke County to the Central Time Zone. Out of 281 comments submitted to the docket from Starke County, 244 favored the Central Time Zone, 12 favored the Eastern Time Zone, and 25 either expressed no preference or said that Indiana should be on one time zone.

Marshall

Marshall County Commissioners submitted a petition in which they enumerated reasons for the Central Time Zone. The petition listed Marshall County's various commercial and social relationships with St. Joseph County: Television and radio broadcasts, a newspaper, an airport, commuters and workers, as well as schools and a university. In addition, the County Commissioners submitted annual commuting data in support of their position. After DOT's NPRM was proposed not to move Marshall County to the Central Time Zone, Marshall County submitted a resolution that requested that DOT “reconsider approval of St. Joseph County's petition to be relocated to Central Time and/or Marshall County's petition.” The reason given is that “it is imperative that Marshall County be on the same time zone as St. Joseph County. From an economic standpoint, Marshall County prefers the same time zone as all of its regional economic partners, St. Joseph, Elkhart and Kosciusko County.”

Marshall County Commissioners Kevin Overmeyer and John Lentz spoke in support of their petition at the South Bend hearing and introduced Doug Auspach from the Marshall County Chamber of Commerce as a supporter of their petition.

State Representative Steve Heim supported moving St. Joseph County into the Central Time Zone and said at the South Bend hearing that Marshall County was “joined at hip” and should also be moved. The Mayor of Plymouth spoke in favor of moving Marshall County to the Central Time Zone, noting regional ties to St. Joseph County.

Out of 426 comments submitted to the docket from Marshall County, 305 favored the Central Time Zone, 50 favored the Eastern Time Zone, and 71 expressed interest in keeping Indiana on the same time zone, expressing no preference.

Pulaski

Pulaski County Commissioners submitted a petition in which they enumerated reasons for a move to the Central Time Zone based on comments made during an open public meeting. County Commissioners commented that at the open public hearing, “There were no citizens who were in favor of Eastern. All were in favor of leaving the time alone, by not having to change time during the year. But, if we have to choose one of the two, the choice would be Central Time.” County Commissioners noted the consideration of school children waiting during a late sunrise, the importance of sunlight to its farming community, television programming from South Bend and Chicago, newspapers from Indianapolis, South Bend, Logansport, and Chicago, and airports in Indianapolis and Chicago. In addition, the County Commissioners submitted annual commuting data in support of their position.

Director Dan Dolezal of the Pulaski Community Development Commission presented information from the two major employers in the County who favored the Central Time Zone as well as from other employers. The President of Pulaski County Council also spoke in favor the Pulaski County petition and also noted the difficulty of being a border county and suggested that the entire state be in the same time zone. In a comment to the docket, Paul O'Malley noted that Pulaski County has regional ties to counties that are currently in the Central Time Zone or would be moved to the Central Time Zone by DOT's decision. He referred to workforce planning, economic growth, and economic development regions. Moving Pulaski to the Central Time Zone would ensure that all counties in these regions were in the same time zone.

Out of 71 comments submitted to the docket from Pulaski County, 41 favored the Central Time Zone, 17 favored the Eastern Time Zone, and 13 expressed interest in keeping Indiana on the same time zone, expressing no preference.

Fulton

The Fulton County Commissioners unanimously petitioned to be changed to the Central Time Zone. They noted economic development is to points North and West, rather than East and South. Fulton County's petition enumerated reasons for a preference to move to the Central Time Zone based on information presented by the Fulton Economic Development Corporation, in response to the questions posed by the Department to determine whether such a change would be “for the convenience of commerce.” The petition noted the origin and destination of supplies, the origin of television and radio broadcasts and newspapers, bus, passenger rail, and air transportation options, and work patterns, but did not conclusively favor one time zone or another. The comments of several local business owners, included in the submission by the Fulton County Commissioners, preferred either no time zone change or a change to the Central Time Zone. A letter requesting consideration of the Fulton petition and an extension of time “to submit additional information before a final decision is made” was also submitted by an attorney for the Fulton County Board of Commissioners, but no additional data was submitted.

Commissioner Rose spoke at the Logansport hearing, presenting information in further support of the county's original petition to move to the Central Time Zone. The Fulton County Commissioner stressed the close connection of Fulton County to St. Joseph and Marshall Counties, pointing out, for example, that the U.S. 31 corridor was the main road in the county and connected its northern neighboring counties. He stated that Fulton should not be isolated from those counties by being on a different time zone, and would like to include Elkhart and Kosciusko Counties. He stated that the school districts preferred Central time and that they would prefer not to be dealing with two different time zones. Fulton County Commissioners Roger Rose and Richard Powell spoke in support of their petition at the South Bend hearing.

Out of 30 comments submitted to the docket from Fulton County, 12 favored the Central Time Zone, 3 favored the Eastern Time Zone, and 15 expressed interest in keeping Indiana on the same time zone, expressing no preference.

White

With a 2-1 vote, the White County Commissioners petitioned to be moved to the Central Time Zone based on two public hearings and email, telephone, and personal contact. White County residents expressed an interest in “keeping the time the way it is” before Daylight Saving Time. They noted that White County is halfway between Chicago and Indianapolis and bordered by 5 Indiana counties, one currently on the Central Time Zone, one choosing to remain in the Eastern Time Zone and 3 counties that petitioned for a change to the Central Time Zone. The Commissioner also said that many residents expressed concern about “school children boarding buses in the dark all winter when we are on Eastern time.” They noted that media and transportation were split between the Eastern and Central Time Zones.

Out of 37 comments submitted to the docket from White, 11 favored the Central Time Zone, 21 favored the Eastern Time Zone, and 5 expressed interest in keeping Indiana on the same time zone, expressing no preference.

Carroll

Carroll County Commissioners submitted a petition to move to the Central Time Zone based on 3 public hearings during which “not one citizen of Carroll County spoke in favor of Eastern Time.” They stated, “if Lafayette were on Central Time this would be a very compelling reason for Central Time.” While they stated the leading industry is meat packing, which ships to the west into the Central Time Zone, they also noted with regard to transportation that the airports in Chicago and Indianapolis are used “almost in equal numbers” and that residents “leave the county for every reason in all directions,” not favoring any time zone. They also noted no significant time zone impact on media.

Commissioner Hylton spoke at the Logansport hearing, noting that Carroll was a rural agricultural county. He noted that the late sunrise in the winter was a concern because no sunlight and bad winter weather could cause school cancellation, rather than just a late arrival. Delayed school starts would also have a negative impact on working parents. He noted that another factor in the decision to petition to be moved to the Central Time Zone was in anticipation that neighboring counties Tippecanoe and Howard would also request a move to the Central Time Zone, but they did not.

Out of 13 comments submitted to the docket from Carroll County, 5 favored the Central Time Zone, 6 favored the Eastern Time Zone, and 2 expressed interest in keeping Indiana on the same time zone, expressing no preference.

Cass

Cass County Commissioners petitioned for a change to the Central Time Zone and enclosed two exhibits, Work/Residence Patterns—A STATS Indiana Annual Commuting Trends Profile and a letter from the Logansport Economic Development Foundation (LEDF), responding to the questions DOT posed in its notice inviting local officials to request a time zone change. The commuting patterns showed that workers commuting into Cass County came from counties in the Eastern Time Zone. Likewise, 17% of Cass County residents work outside of Cass County and commute to work into counties in the Eastern Time Zone. With regard to how the time zone impacts on such things as economic, cultural, social, and civic activities, the letter from LEDF said that it did not have specific information to address these matters.

At the Logansport hearing, Commissioner Eller spoke in support of the county's petition, emphasizing a poll that showed that residents did not want Daylight Saving Time and wanted to have the same time across the state. He said that after school activities will be problematic with schools in counties in different time zones. On the other hand, noting that he was absent when the County Commissioners voted to petition to request a change to the Central Time Zone, Commissioner Steve Kain favored Eastern Time Zone. He said that residents seek medical attention in Kokomo, Lafayette, and Indianapolis, which are in the Eastern Time Zone.

At the Logansport hearing, the DOT hearing official was presented with a petition signed by 91 citizens of Cass County requesting that the U.S. Department of Transportation “leave Cass County, Indiana, in the same time zone as the cities of Kokomo, Lafayette and Indianapolis, i.e., Eastern Standard Time.”

Out of 14 comments submitted to the docket from Cass County (excluding those presenting at the Logansport hearing), 6 favored the Central Time Zone, 5 favored the Eastern Time Zone, and 3 expressed interest in keeping Indiana on the same time zone, expressing no preference.

Non-Petitioning Counties

In the Notice of Proposed Rulemaking, we specifically invited comment from neighboring Indiana counties, and counties in Michigan, Kentucky, Ohio, and Illinois that may also be impacted by any change. Out of 611 comments submitted to the docket from Elkhart County, 219 favored the Central Time Zone, 241 favored the Eastern Time Zone, and 151 expressed interest in keeping Indiana on the same time zone, expressing no preference. Out of 48 comments submitted to the docket from Kosciusko County, 15 favored the Central Time Zone, 12 favored the Eastern Time Zone, and 21 expressed interest in keeping Indiana on the same time zone, expressing no preference.

Southwest Counties

Petitioning

Sullivan

Sullivan County Commissioners petitioned to change to the Central Time Zone. Their letter stated, “The Commissioners' concern is the unusually late sunrise would expose our school children and morning commuters to undue hazards. The extended darkness and winter weather conditions make a very dangerous combination.” Sullivan County Commissioners Ray McCammon, Carter Phigly, and Chris Atkinson spoke at the Terre Haute public hearing in support of their petition.

Out of 43 comments submitted to the docket from Sullivan County, 7 favored the Central Time Zone, 30 favored the Eastern Time Zone, and 6 expressed interest in keeping Indiana on the same time zone, expressing no preference.

Donny Morin, a Sullivan County resident, was a strong proponent of moving Sullivan County to the Central Time Zone. He listed a number of businesses that shared a “close economic relationship with Illinois and Southwestern Indiana businesses.” He also noted that “[m]any people from the Sullivan County Community attend 1 or 6 nearby post secondary schools * * *. Of those six higher educational institutions, only three are or would be in the Eastern Time Zone.” He also noted a similar split in health care. Of the four hospitals serving Sullivan County, two hospitals are in a county in the Eastern Time Zone, one is in Sullivan, and the other is in a county proposed to be in the Central Time Zone. He also commented on confusion in television broadcasting tornado warnings and the time zones in the affected areas. On the other hand, many commenters to the docket stated that Sullivan County residents noted that many residents work in Vigo County in the Eastern Time Zone and noted regional ties to Vigo.

Knox

Knox County Commissioners submitted a petition to move to the Central Time Zone based on a public hearing during which “a majority of the citizens and businesses of Knox County favored adopting Central Daylight Savings Time” and a unanimous vote by the Commissioners to adopt “a Resolution calling for institution of Central Daylight Savings Time in Knox County.” The attorney for the Knox County Board of Commissioners sent a letter with the petition, and the petition's accompanying exhibit enumerated the ways in which the shipment of goods, television broadcasts, newspapers, bus services, airports, and work patterns favor Knox County being located in the Central Time Zone.

The petition noted that Knox is located at the western edge of Indiana, bordering Illinois, which is in the Central Time Zone. To the south, Knox borders Gibson County, Indiana, which is also in the Central Time Zone. The Knox petition noted that Knox County residents were employed at the Toyota plant in Gibson County, “creating time zone issues.” As for social and civic activities, it noted that residents “who leave the county for schooling, recreation, healthcare, or religious worship primarily go into the State of Illinois, or Gibson and Vanderburgh Counties in Indiana.” These areas are located in the Central Time Zone.

As we noted in the NPRM, Knox provided information on their commuting patterns to the Central Time Zone, and reliance on Evansville for a majority of their communications and transportation services.

At the Jasper public hearing, Knox County Commissioners Beckwith and Bobe spoke in support of their petition.

Out of 27 comments filed by Knox County residents, 6 favored the Central Time Zone, 14 favored the Eastern Time Zone, and 7 either expressed no preference or said that Indiana should be on one time zone.

Daviess

The Daviess County Commissioners unanimously petitioned to move to the Central Time Zone. They stated that Daviess County residents shopped in Evansville in the Central Time Zone, and noted that the closest major airport was also located there. While they received television broadcasts from Evansville, they also received them from Terre Haute. The Commissioners noted that “numerous citizens of Daviess County” are employed in Gibson County in the Central Time Zone.

After DOT issued its notice that did not propose to move Daviess County to the Central Time Zone, Commissioner Wichman wrote to express his dismay and provided additional justification. He noted strong employment ties to other counties in the southwest region, including three major factories. He also said that Daviess County had close ties to Knox County because of “a 4 year college, a large regional hospital and large retail outlets.”

Out of 10 comments submitted to the docket from Daviess County, 5 favored the Central Time Zone, 4 favored the Eastern Time Zone, and 1 expressed interest in keeping Indiana on the same time zone, expressing no preference. Knox County Commissioners spoke in support of moving Daviess County to the Central Time Zone at the Jasper public hearing.

Governor Daniels, addressing Southwest Indiana in his letter to the Department, wrote “to fully preserve the unity of this natural region it is essential that you grant the petitions of the three remaining counties in this corner of the State” and specifically noted Daviess County.

Martin

Martin County Commissioners submitted a petition to move to the Central Time Zone after stating that the Commission received “general input from the citizens of Martin County and have been advised that inclusion in the Central Time Zone was preferred by a majority of those responding.” The petition enumerated the ways in which the shipment of goods, television and radio broadcasts, local newspapers, airports, work patterns, major elements of the economy, outlets for higher education, and hospital services favor Martin County being located in the Central Time Zone, because the surrounding counties which impacted these matters were also petitioning to be moved into the Central Time Zone.

At the Jasper hearing, Martin County Commissioner Michael Dant emphasized workforce development and the importance of being in the same time zone as Martin County's surrounding counties as a reason to move Martin County to the Central Time Zone.

Out of 9 comments submitted to the docket from Martin County, 4 favored the Central Time Zone, 5 favored the Eastern Time Zone.

Both at the Jasper hearing and in a written submission to the docket, Martin County residents emphasized Martin County's connection to other counties in southwestern Indiana. For example, Justin Byrd emphasized Evansville's sphere of influence into the region by referring to its media range, air transportation, and cellular phone service.

Governor Daniels, addressing Southwest Indiana in his letter to the Department, wrote “to fully preserve the unity of this natural region it is essential that you grant the petitions of the three remaining counties in this corner of the State” and specifically noted Martin County.

Lawrence

In a letter to the Department, Lawrence County requested a change to the Central Time Zone. The County Commissioners made a geographic argument and noted “every square foot of Indiana is located in the Central/Standard Time Zone * * * ” In addition to their geographic position, the County Commissioners noted that the county receives media from Indianapolis and Louisville, both in the Eastern Time Zone. Transportation (bus and air) was mixed, with bus traffic to Indianapolis in the Eastern Time Zone and air service from airports in both the Eastern and Central Time Zones. As for commuting patterns, the letter stated that the “majority of the residents who commute to other counties are primarily employed in the cities of Bloomington, Seymour, Indianapolis, Louisville, or Crane.” These cities are in the Eastern Time Zone.

Two Lawrence County Commissioners spoke at the hearing in Jasper. While Lawrence County Commissioner David Flinn emphasized desire to move to the Central Time Zone to ensure the safe transportation of school children, his colleague on the Commission, Bill Spreen, emphasized that the State should be united.

Out of 8 comments submitted to the docket from Lawrence County, 5 favored the Central Time Zone and 3 favored the Eastern Time Zone.

Pike

The Pike County Commissioners petitioned for a change to the Central Time Zone, voting in favor of the petition by a 2-1 vote, emphasizing changing working patterns to the Central Time Zone and transportation services and television and radio broadcasts from the Central Time Zone. As we noted in the NPRM, based on the evidence presented, Pike County appears to be closely tied to Evansville for many goods, services, and activities.

Pike County Commissioner Dale Nalley expressed appreciation to the Department for proposing to move Pike County to the Central Time Zone and, stressing regional ties, also spoke in support of the Dubois County petition, saying that Pike and Dubois counties should be on the same time zones.

Out of 16 comments submitted to the docket from Pike, 8 favored the Central Time Zone, 5 favored the Eastern Time Zone, and 3 expressed interest in keeping Indiana on the same time zone, expressing no preference.

Dubois

With a 2-1 vote, the Dubois County Commissioners petitioned to be moved to the Central Time Zone based on a public meeting, additional polls, and detailed information responding to DOT's questions. The Commissioners stated that the requested change of time zone “was supported by 60% to 70% of the general public, by representatives of three local school districts, and by approximately 50% of local business and industry.” The Commissioners stressed Dubois County's relationship with the Evansville region. In addition, the Commissioners submitted annual commuting data, Indiana Economic Development Corporation Regional Office data, and Indiana Workforce Development data emphasizing regional connections in support of their position.

Commissioner John Burger from Dubois County reported that Dubois submitted additional information to the docket. He provided detailed statistics on the number of newspaper subscribers in the county who preferred to receive their news from Evansville as opposed to Indianapolis. He also emphasized the connection of the counties in the region.

Out of 288 comments submitted to the docket from Dubois, 130 favored the Central Time Zone, 146 favored the Eastern Time Zone, and 12 expressed interest in keeping Indiana on the same time zone, expressing no preference.

Knox County Commissioners Beckwith and Bobe spoke in support moving Dubois County to the Central Time Zone. In addition, Pike County Commissioner Dale Nalley spoke in support of the Dubois County petition, saying that Pike and Dubois counties should be on the same time zones.

Governor Daniels, addressing Southwest Indiana in his letter to the Department, wrote “to fully preserve the unity of this natural region it is essential that you grant the petitions of the three remaining counties in this corner of the State” and specifically noted Dubois County.

The President and General Manager of Holiday World & Splashin’ Safari in Spencer County wrote in support of moving Dubois County to the Central Time Zone, based on the close economic ties to Perry, Spencer, and Pike Counties. He said that a time zone boundary between Spencer and Dubois counties would have a negative impact on visitors to the park and noted that 26% of seasonal employees commuted from Dubois County.

In a statement in support of the Dubois County petition, Paul O'Malley referred to the county's economic ties to southwest Indiana as “illustrated by its inclusion in the southwestern regions of several economic and business related regions designated by the Indiana government.” He noted that Dubois County is in Workforce Investment Region 11 as well as the Southwest Indiana Economic Development Region an Economic Growth Region 11. He also noted that Dubois County is in the Evansville District of the United States District Court for the Southern District of Indiana and that jurisdiction for residents of Dubois County in bankruptcy matters is also in Evansville, in the Central Time Zone. As for education, Mr. O'Malley stated that Dubois County school districts do not cross county lines. Referring to commuting patterns, he stated “the number would overwhelmingly favor Central Time.”

Perry

Perry County Commissioners submitted a petition to move to the Central Time Zone with detailed information to illustrate how the change would “serve the convenience commerce. The petition responded to the Department's request for information on how the change in time zone would impact economic, cultural, social, and civic activities and how time zone changes affect businesses, communication, transportation, and education. It discussed how the television broadcasts, newspapers, and work patterns favor Perry County being located in the Central Time Zone.

At the Jasper public hearing, Perry County was represented by attorney Christopher Goffinet who submitted a petition on behalf of the County. Emphasizing regional connections, he said it was “very important” for Perry and Dubois County to be on the same time zone because of the “significant” number of Perry County residents who work in Dubois County.

Out of 30 comments submitted to the docket from Perry County, 15 favored the Central Time Zone, 30 favored the Eastern Time Zone, and 4 expressed interest in keeping Indiana on the same time zone, expressing no preference.

West Central

Vermillion

Vermillion County Commissioners petitioned for a change from the Eastern Time Zone to the Central Time Zone based on a discussion during a regularly scheduled meeting of the Vermillion County Board of Commissioners where all speakers favored a change to the Central Time Zone. The petition summarized the reasons as follows: many people from Vermillion work in Illinois, travel there for medical treatments or for entertainment, use the airports in Illinois and get their radio and news from Illinois.

DOT preliminarily denied Vermillion County's petition. Vermillion County Commissioner Marrietta spoke at the hearing in favor of one time zone for the entire state and Vermillion County did not submit any additional information.

Of the 25 comments submitted to the docket from Vermillion County residents, 11 favored the Central Time Zone, based on media, transportation, employment and the economy, geography, and social reasons. Commenters noted that Vermillion County borders Illinois in the Central Time Zone. Ten Vermillion County residents favored the Eastern Time Zone, due to social, employment and economic reasons, and wanting to be on the same time zone as Vigo and Marion Counties. One commenter noted that Vigo is home to Indiana State University, Rose Hulman Institute of Technology, Ivy Tech, and St Mary's of the Woods and is “a known retail hub in the area.” Another Vermillion County resident, speaking at the Terre Haute public hearing, noted that she favored the Eastern Time Zone because the headquarters of the county's largest employer is in the Eastern Time Zone.

According to Work/Residence Patterns—A STATS Indiana Annual Commuting Trends Profile, the majority of workers commuting into and out of Vermillion County do so from the Eastern Time Zone. Furthermore, Vermillion County is in an economic growth, workforce, and commerce region with other counties in the Eastern Time Zone. As we noted in the NPRM, we have been reluctant to create “islands of time” by placing one county in a different time zone from all its neighboring counties in the State; we consider the affect on economic, cultural, social, and civic activities between neighboring counties in making decisions.

DOT Determination

Northwest

Based on the petitions, comments to the docket and at the public hearings, and an analysis of Indiana economic, workforce, transportation, and education regions and media/commerce data, DOT is relocating, for the convenience of commerce, Starke and Pulaski Counties from the Eastern Time Zone to the Central Time Zone. We are not changing the time zone boundaries of St. Joseph, Marshall, Fulton, White, Carroll, and Cass Counties. These 6 counties will remain in the Eastern Time Zone.

Starke addressed all the factors that we consider in these proceedings and made a convincing case that changing to the Central Time Zone would serve “the convenience of commerce.” Written comments from Starke County overwhelmingly supported moving the county to the Central Time Zone where it had previously been some years ago. We did not receive any additional information that would persuade us to change our initial determination to move Starke to the Central Time Zone.

In the NPRM, we did not propose to move Pulaski County to the Central Time Zone. Pulaski, however, has regional ties to Starke County, a county we are moving to the Central Time Zone. Although the County Commissioners did not submit additional information or data, the Director of the Pulaski County Community Development Commission presented information in support of the Central Time Zone that had not been previously provided by the County, including information about two major employers. Further, Pulaski has regional economic and workforce ties and business connections to counties already in the Central Time Zone. Those ties are enhanced by moving the time zone boundary for Pulaski County. A clear majority of the comments to the docket also supported a change to the Central Time Zone. For these reasons, we have determined that Pulaski County also be moved to the Central Time Zone.

St. Joseph County addressed all the factors that we consider in its petition and explained why changing to the Central Time Zone could serve “the convenience of commerce.” Of all the petitions received by DOT requesting a move from the Eastern Time Zone to the Central Time Zone, however, the petition from St. Joseph County was the most controversial and generated the most comment. One third of the 6000 comments to the docket addressed the St. Joseph County petition and more than 200 people attended the public hearing in South Bend, with over 150 presenting comments.

The written comments to the docket concerning the St. Joseph County petition were almost equally divided between supporting and opposing a change from the Eastern to the Central Time Zone. Those supporting a change cited the close ties of the county to Chicago and the Midwest and the fact that their neighboring counties to the west were all in the Central Time Zone. A representative of the South shore railroad complained that it was the only commuter railroad in the country that deals with two time zones for its schedule.

Significantly, a substantial number of those supporting a move to the Central Time Zone acknowledged that the surrounding counties to the east and south, Elkhart, Kosciusko, and Marshall, should also be moved to the Central Time Zone because of their close ties to St. Joseph County. Even though Elkhart and Kosciusko had not sought a change and DOT did not propose to move Marshall, these commenters urged that St. Joseph County be changed in hopes of “forcing” the other counties to move to the Central Time Zone.

On the other hand, a sizable number of commenters (40%) opposed moving St. Joseph County to the Central Time Zone citing the close ties of the Michiana area, including workforce districts and media markets as well as educational, recreational, and health care opportunities. Many of these commenters spoke about their frequent cross-county trips and trips between Indiana and lower Michigan for personal and business reasons, complaining that they would be made more difficult by changing the time zone boundary of only a single county. They feared that this would create problems for businesses and citizens alike. Indeed, one might characterize these commenters' view of moving only St. Joseph County as promoting the “inconvenience of commerce” rather than furthering the statutory goal “for the convenience of commerce.”

We give substantial consideration to the views of local elected officials because the foundation of our time zone boundary proceedings rest upon their requests. We note that although the President of St. Joseph County signed the county petition, spoke in favor of it at the South Bend hearing, and subsequently submitted an additional letter of support to the docket, as a member of the Michiana Council of Governments (MACOG), she also made a motion to “support the sending of a letter by the policy board to ask that the four county region all remain in the same time zone.” In addition, a second St. Joseph County Commissioner submitted comments to the docket opposing a move to the Central Time Zone. Based on the conflicting views of the county commissioners in St. Joseph County and 2 local mayors and the information submitted showing St. Joseph's ties to the Michiana area including Elkhart and Kosciusko Counties that did not petition for a change, we believe that a time zone change, at this time, would not be for the convenience of commerce. DOT, therefore, is not changing the time zone boundary for St. Joseph County. St. Joseph County will remain in the Eastern Time Zone.

Fulton County in Northwest Indiana, bordered by 7 other Indiana counties, 5 in the Eastern Time Zone, and two to be moved to the Central Time Zone as a result of this final rule, petitioned for a change to the Central Time Zone. We did not find that the county petition provided sufficient information under the statutory standard to justify proposing the change. The County Commissioners did not provide any additional information in this proceeding. No commenters submitted sufficient evidence to warrant a change in time zones. Furthermore, neither regional ties nor commuting patterns would justify a change in the time zone at this time. Fulton County is located in an economic growth area with bordering counties that are located in the Eastern Time Zone. DOT, therefore, is not changing the time zone boundary for Fulton County. Fulton County will remain in the Eastern Time Zone.

Marshall County in Northwest Indiana, bordering 6 other Indiana counties, 4 in the Eastern Time Zone and two to be moved to the Central Time Zone as a result of this final rule, petitioned for a change to the Central Time Zone. We did not find that the county petition provided sufficient information under the statutory standard to justify proposing the change. The County Commissioners did not provide sufficient additional information in this proceeding. No commenters submitted sufficient evidence to warrant a change in time zones. Furthermore, neither regional ties nor commuting patterns would justify a change in the time zone, at this time. Marshall County is located in a regional workforce center, a commerce region, and a commerce/media region with bordering counties that are located in the Eastern Time Zone. DOT, therefore, is not changing the time zone boundary for Marshall County. Marshall County will remain in the Eastern Time Zone.

White County in Northwest Indiana, surrounded by 6 other Indiana counties, 4 in the Eastern Time Zone, one currently in the Central Time Zone, and one to be moved to the Central Time Zone as a result of this final rule, petitioned for a change to the Central Time Zone. We did not find that the county petition provided sufficient information under the statutory standard to justify proposing the change. The County Commissioners did not provide any additional information in this proceeding. No commenters submitted sufficient evidence to warrant a change in time zones. Furthermore, neither regional ties nor commuting patterns would justify a change in the time zone at this time. White County is located in a regional workforce center, a commerce region, and a commerce/media region with bordering counties that are located in the Eastern Time Zone. DOT, therefore, is not changing the time zone boundary for White County. White County will remain in the Eastern Time Zone.

Carroll County in Northwest Indiana, surrounded by 5 other Indiana counties, all in the Eastern Time Zone, petitioned for a change to the Central Time Zone. We did not find that the county petition provided sufficient information to justify proposing the change. In fact, some of the county's evidence, such as that relating to transportation patterns, pointed equally to Chicago and Indianapolis, and they conceded no significant time zone impact on the media. Neither the County Commissioners nor other commenters subsequently submitted sufficient evidence to warrant a change in time zones and neither regional ties nor commuting patterns would justify a change in the time zone at this time. Carroll County is located in a regional workforce center, a commerce region, and a commerce/media region with bordering counties that are located in the Eastern Time Zone. DOT, therefore, is not changing the time zone boundary for Carroll County. Carroll County will remain in the Eastern Time Zone.

Cass County in Northwest Indiana, surrounded by 5 other Indiana counties, all in the Eastern Time Zone, petitioned for a change to the Central Time Zone. We did not find that the county petition provided sufficient information to justify proposing the change. For example, the commuting patterns from STATS Indiana submitted by the Commissioners showed workers commuting into and out of Cass County as coming from and going to counties in the Eastern Time Zone. Neither the County Commissioners nor other commenters submitted sufficient evidence to warrant a change in time zones and neither regional ties nor commuting patterns would justify a change in the time zone at this time. Cass County is located in a regional workforce center, a commerce region, and a commerce/media region with bordering counties that are located in the Eastern Time Zone. DOT, therefore, is not changing the time zone boundary for Cass County. Cass County will remain in the Eastern Time Zone.

Central

Vermillion County in Central Indiana, on the Illinois border and surrounded by 3 other Indiana counties in the Eastern Time Zone, petitioned for a change to the Central Time Zone. We did not find that the county petition provided sufficient information to justify proposing the change. The County did not provide any additional information in the proceeding. No commenters submitted sufficient evidence to warrant a change in time zones and neither regional ties nor commuting patterns would justify a change in the time zone for the convenience of commerce at this time.

Vermillion County is closely aligned regionally with its neighboring counties Vigo and Parke. They share economic growth, workforce, commerce, transportation, and education regions defined by Indiana. As we noted in the NPRM, we have been reluctant to create “islands of time” by placing one county in a different time zone from all its neighboring counties in the State; we consider the effect on economic, cultural, social, and civic activities between neighboring counties in making decisions. DOT, therefore, is not changing the time zone boundary for Vermillion County. Vermillion County will remain in the Eastern Time Zone.

Southwest

The following counties in Southwest Indiana petitioned DOT to be moved to the Central Time Zone: Sullivan, Knox, Pike, Daviess, Dubois, Martin, Lawrence, and Perry. DOT tentatively proposed to relocate the time zone boundary in Indiana to move Knox, Pike, and Perry Counties from the Eastern Time Zone to the Central Time Zone at the request of their County Commissioners. We tentatively proposed not to change the time zone boundary to move Sullivan, Daviess, Dubois, Martin, and Lawrence Counties from the Eastern Time Zone to the Central Time Zone. We noted that if additional information was provided that indicates that the time zone boundary should be drawn differently, either to include counties currently excluded or to exclude counties that are currently included in this proposal, we would make the change at the final rule stage of this proceeding.

Based on the comments submitted to the docket and made at the public hearings and an analysis of Indiana economic, workforce, transportation, education regions and media/commerce data, DOT is relocating, for the convenience of commerce, the time zone boundary to move Knox, Pike, Daviess, Dubois, Martin, and Perry Counties to the Central Time Zone. As described above in the summary of the hearings and comments to the docket, these six counties have strong regional ties to each other and Central Time Zone Counties. While Daviess, Dubois, Knox, Martin, and Perry border other Indiana counties in the Eastern Time Zone, their ties to those counties is not as strong as they are to each other and to other counties to their south, which are currently in the Central Time Zone. Along with Pike, these counties are located in the same workforce, commerce, transportation, and education regions designated by Indiana.

With regard to Sullivan and Lawrence Counties, also in the Southwest, we did not find that either county provided sufficient information to justify proposing the change. County Commissioners from both counties spoke at the public hearings; Sullivan County Commissioners spoke in Terre Haute and Lawrence County Commissioners spoke in Jasper. Neither county, however, provided sufficient additional information to justify a move to the Central Time Zone for the convenience of commerce.

Sullivan County is surrounded by 4 counties in Indiana and borders Illinois to the west. Prior to this proceeding, the four Indiana counties have been located in the Eastern Time Zone; this final rule will change the county to the south of Sullivan to the Central Time Zone. No commenters submitted sufficient evidence to warrant a change in time zones and neither regional ties nor commuting patterns would justify a change in the time zone at this time. Sullivan County is located in a regional workforce center and a commerce region with bordering counties that are located in the Eastern Time Zone. DOT, therefore, is not changing the time zone boundary for Sullivan County. Sullivan County will remain in the Eastern Time Zone.

Lawrence County is surrounded by 6 counties. Prior to this proceeding, all 6 have been located in the Eastern Time Zone; this final rule will change one of the counties on the western border of Lawrence to the Central Time Zone. No commenters submitted sufficient evidence to warrant a change in time zones and neither regional ties nor commuting patterns would justify a change in the time zone for the convenience of commerce at this time. Lawrence County is located in a regional workforce center, a commerce region, and a commerce/media region with bordering counties that are located in the Eastern Time Zone. DOT, therefore, is not changing the time zone boundary for Lawrence County. Lawrence County will remain in the Eastern Time Zone.

Conclusion

In our experience, time zone boundary changes can be extremely disruptive to a community and, therefore, should not be made without careful consideration. Our decision is based on the statutory standard “regard for the convenience of commerce and the existing junction points and division points of common carriers engaged in interstate or foreign commerce,” which we define very broadly to include consideration of all the impacts upon a community of a change in its standard of time. Our decision is intended to minimize disruption and to allow communities to fully assess the impact of potential changes to the time zone boundaries of their neighbors and Daylight Saving Time observance beginning in April 2006. Governmental representatives are free to petition DOT in the future to make further changes to the time zone boundary.

Impact on Observance of Daylight Saving Time

As noted above, this time zone proposal does not affect the observance of Daylight Saving Time. Under the Uniform Time Act of 1966, as amended, the standard time of each time zone in the United States is advanced one hour from 2 a.m. on the first Sunday in April until 2 a.m. on the last Sunday in October, except in any State that has, by law, exempted itself from this observance. Under recently enacted federal legislation, beginning in 2007, Daylight Saving Time will begin the second Sunday in March and end the first Sunday in November.

In 2006, Indiana will begin observing Daylight Saving Time throughout the State. Our decision does not change Indiana's decision to observe Daylight Saving Time statewide. However, as noted by many commenters, the effect of the Indiana legislature's action is that the State will no longer have a single statewide time for seven months of the year as it has had previously when the counties in the Eastern Time Zone did not observe Daylight Saving Time.

Regulatory Analysis & Notices

This proposed rule is not a “significant regulatory action” under section 3(f) of Executive Order 12866 and does not require an assessment of potential costs and benefits under section 6(a)(3) of that Order. It has not been reviewed by the Office of Management and Budget under that Order. It is not “significant” under the regulatory policies and procedures of the Department of Transportation (44 FR 11040; February 26, 1979). We expect the economic impact of this proposed rule to be so minimal that a full Regulatory Evaluation under paragraph 10e of the regulatory policies and procedures of DOT is unnecessary. The rule primarily affects the convenience of individuals in scheduling activities. By itself, it imposes no direct costs. Its impact is localized in nature.

Small Entities

Under the Regulatory Flexibility Act (5 U.S.C. 601-612), we considered whether this final rule would have a significant economic impact on a substantial number of small entities. The term “small entities” comprises small businesses, not-for-profit organizations that are independently owned and operated and are not dominant in their fields, and governmental jurisdictions with populations of less than 50,000. This rule primarily affects individuals and their scheduling of activities. Although it would affect some small businesses, not-for-profits and, perhaps, a number of small governmental jurisdictions, we have not received comments asserting that our proposal, if adopted, would have had a significant impact on small entities.

Therefore, I certify under 5 U.S.C. 605(b) that this final rule does not have a significant economic impact on a substantial number of small entities. Under section 213(a) of the Small Business Regulatory Enforcement Fairness Act of 1996 (Pub. L. 104-121), we want to assist small entities in understanding this rule so that they can better implement it.

Collection of Information

This final rule does not call for a new collection of information under the Paperwork Reduction Act of 1995 (44 U.S.C. 3501-3520).

Federalism

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

Unfunded Mandates

The Unfunded Mandates Reform Act of 1995 (2 U.S.C. 1531-1538) and E.O. 12875, Enhancing the Intergovernmental Partnership, (58 FR 58093; October 28, 1993) govern the issuance of Federal regulations that impose unfunded mandates. An unfunded mandate is a regulation that requires a State, local, or tribal government or the private sector to incur direct costs without the Federal Government's having first provided the funds to pay those costs. This final rule would not impose an unfunded mandate.

Taking of Private Property

This final rule does not result in a taking of private property or otherwise have taking implications under E.O. 12630, Governmental Actions and Interference with Constitutionally Protected Property Rights.

Civil Justice Reform

This final rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety as defined by the Executive Order that may disproportionately affect children.

Environment

This rulemaking is not a major Federal action significantly affecting the quality of the human environment under the National Environmental Policy Act and, therefore, an environmental impact statement is not required.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 71

Time zones.

For the reasons discussed above, the Office of the Secretary amends Title 49 Part 71 to read as follows:

PART 71—STANDARD TIME ZONE BOUNDARIES

1. The authority citation for Part 71 continues to read as follows:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; 49 CFR 159(a), unless otherwise noted.

2. Paragraphs (b) and (c) of § 71.5 are revised to read as follows:

§ 71.5 Boundary line between eastern and central zones.

(a) * * *

(b) Indiana-Illinois. From the junction of the western boundary of the State of Michigan with the northern boundary of the State of Indiana easterly along the northern boundary of the State of Indiana to the east line of LaPorte County; thence southerly along the east line of LaPorte County to the north line of Starke County; thence east along the north line of Starke County to the west line of Mashall County; thence south along the west line of Marshall County and Fulton County to the north line of Cass County; thence west along the south line of Pulaski County to the east line of Jasper County; thence south along the east line of Jasper County to the south line of Jasper County; thence west along the south lines of Jasper and Newton Counties to the western boundary of the State of Indiana; thence south along the western boundary of the State of Indiana to the north line of Knox County; thence easterly along the north line of Knox, Daviess, and Martin Counties to the west line of Lawrence County; thence south along the west line of Lawrence, Orange, and Crawford Counties to the north line of Perry County; thence easterly and southerly along the north and east line of Perry County to the Indiana-Kentucky boundary.

(c) Kentucky. From the junction of the east line of Perry County, Ind., with the Indiana-Kentucky boundary easterly along that boundary to the west line of Meade County, Ky.; thence southeasterly and southwesterly along the west lines of Meade and Hardin Counties to the southwest corner of Hardin County; thence along the south lines of Hardin and Larue Counties to the northwest corner of Taylor County; thence southeasterly along the west (southwest) lines of Taylor County and northeasterly along the east (southeast) line of Taylor County to the west line of Casey County; and thence southerly along the west and south lines of Casey and Pulaski Counties to the intersection with the western boundary of Wayne County; and then south along the western boundary of Wayne County to the Kentucky-Tennessee boundary.

* * * * *

Issued in Washington, DC on January 17, 2006.
Norman Y. Mineta,
Secretary.

[FR Doc. 06-563 Filed 1-19-06; 8:45 am]

BILLING CODE 4910-62-P